NUCLEAR REGULATORY COMMISSION

[Docket No. 04009067; NRC-2008-0339]

Notice of Issuance of Materials License SUA-1597 and Record of Decision for Uranerz Energy Corporation Nichols Ranch In Situ Recovery Project

AGENCY: U.S. Nuclear Regulatory Commission.

ACTION: Notice of issuance of materials license SUA-1597.

SUPPLEMENTARY INFORMATION: The Nuclear Regulatory Commission (NRC or the Commission) has issued a license to Uranerz Energy Corporation (Uranerz) for its Nichols Ranch uranium in situ recovery (ISR) Project in Johnson and Campbell Counties, Wyoming. Materials License SUA-1597 authorizes Uranerz to operate its facilities as proposed in its license application, as amended, and to possess uranium source and byproduct material at the Nichols Ranch ISR Project. Furthermore, Uranerz will be required to operate under the conditions listed in Materials License SUA-1597.

This notice also serves as the record of decision for the NRC decision to approve Uranerz's license application for the Nichols Ranch facility and issue Materials License SUA-1597. This record of decision satisfies the regulatory requirement in Section 51.102(a) of Title 10 of the Code of Federal Regulations (10 CFR), which requires a Commission decision on any action for which a final environmental impact statement has been prepared to be accompanied by or include a concise public record of decision.

The NRC considers the entire publicly available record for a license application to constitute the agency's record of decision. Documents related to the application carry docket number 04009067. These documents for the Nichols Ranch ISR Project include the license application (including the applicant's environmental report) (ML080080600), the Commission's Safety Evaluation Report (SER) published in July 2011 (ML102240206) and the Commission's Final Supplemental Environmental Impact Statement (FSEIS) (NUREG-1910, Supplement 2) published in January 2011 (ML103440120). The record of decision also includes the applicable portions of the Generic Environmental Impact Statement for In-Situ Leach Uranium Milling Facilities (NUREG-1910) as incorporated by reference in the FSEIS.

As discussed in the Nichols Ranch FSEIS, the Commission considered a range of alternatives. The reasonable alternatives discussed in detail were the applicant's proposal as described in its license application to conduct in-situ uranium recovery on the site and the no-action alternative. Other alternatives considered but eliminated from detailed analysis include conventional uranium mining and milling, conventional mining and heap leach processing, alternative site location, alternate lixiviants, and alternate wastewater treatment methods. The factors considered when evaluating the alternatives, discussion of preferences among the alternatives, and license conditions and monitoring programs related to mitigation measures are also discussed in the Nichols Ranch FSEIS. The FSEIS also contained the NRC staff recommendation to the Commission, related to the environmental aspects of the proposed action that the source material license should be issued as requested, unless safety issues mandate otherwise.

The NRC has found that the application for the source materials license complied with the standards and requirements of the Atomic Energy Act of 1954, as amended (the Act), and the Commission's regulations. As required by the Act and the Commission's regulations in 10 CFR 40.32(b-c), the staff has found that Uranerz is qualified by reason of training and experience to use source material for the purpose it requested and Uranerz's proposed equipment and procedures for use at its Nichols Ranch Project are adequate to protect public health and minimize danger to life or property. The NRC staff's review supporting these findings is documented in the SER. The NRC staff also concluded, in accordance with 10 CFR 40.32(d), that issuance of Materials License SUA-1597 to Uranerz will not be inimical to the common defense and security or to the health and safety of the public. The staff also found in accordance with 10 CFR 40.32(e), after weighing the environmental, economic, technical and other benefits against environmental costs and considering available alternatives, that the action called for is the issuance of License Amendment No. 1 to Materials License SUA-1597.

Uranerz's request for a materials license was previously noticed in the Federal Register on June 16, 2008 (73 FR 34052), with a notice of an opportunity to request a hearing. The NRC did not receive any requests for a hearing on the license application.

SUPPLEMENTARY INFORMATION: In accordance with 10 CFR 2.390 of the NRC's “Rules of Practice,” the details with respect to this action, including the SER and accompanying documentation and license, are available electronically at the NRC's Electronic Reading Room at http://www.nrc.gov/reading-rm/adams.html. From this site, you can access the NRC's Agencywide Document Access and Management System (ADAMS), which provides text and image files of the NRC's public documents. The ADAMS accession numbers for the documents related to this notice are:

1 | Applicant's application, November 30, 2007 | ML080080594
2 | Revisions to application, August 21, 2008 | ML083230892
3 | Response to Request for Additional Information, March 11, 2009 | ML090820568
4 | Generic Environmental Impact Statement for In Situ Leach Uranium Milling Facilities, May 2009 | ML091530075
5 | Response to Open Issues in Safety Evaluation Report, February 24, 2010 | ML100740143
6 | Text Revisions to Open Issues to the Safety Evaluation Report, September 15, 2010 | ML102650554
7 | Revised Table of Contents to Technical Report, September 22, 2010 | ML102730116
8 | Supplemental Environmental Impact Statement for the Nichols Ranch In-Situ Recovery Project, January 2011 | ML103440120
9 | NRC Safety Evaluation Report, July 2011 | ML102240206
10 | Source Materials License for Nichols Ranch, July 19, 2011 | ML111751649

If you do not have access to ADAMS, or if there are problems in accessing the documents located in ADAMS, contact the NRC Public Document Room (PDR) Reference staff at 1-800-397-4209, 301-415-4737, or via e-mail to PDR.Resource@nrc.gov.

These documents may also be viewed electronically on the public computers located at the NRC's PDR, O 1 F21, One White Flint North, 11555 Rockville Pike, Rockville, MD 20852. The PDR reproduction contractor will copy documents for a fee.

FOR FURTHER INFORMATION CONTACT: Ron C. Linton, Project Manager, Uranium Recovery Licensing Branch, Decommissioning and Uranium Recovery Licensing Directorate, Division of Waste Management and Environmental Protection, Office of Federal and State Materials and Environmental Management Programs, U.S. Nuclear Regulatory Commission, Washington, DC 20555. Telephone: (301) 415-7777; fax number: (301) 415-5369; e-mail: ron.linton@nrc.gov.

Dated at Rockville, Maryland this 19th day of July, 2011.
For the Nuclear Regulatory Commission.
Keith I. McConnell,
Deputy Director, Decommissioning and Uranium Recovery Licensing Directorate, Division of Waste Management and Environmental Protection, Office of Federal and State Materials and Environmental Management Programs.

[FR Doc. 2011-19097 Filed 7-27-11; 8:45 am]

BILLING CODE 7590-01-P